DEPARTMENT OF DEFENSE

Department of the Army, Corps of Engineers

Intent To Prepare a Supplemental Draft Environmental Impact Statement for the Nebraska Highway 12 (N-12) Niobrara East and West Project

AGENCY: Department of the Army, U.S. Army Corps of Engineers, DoD.

ACTION: Notice of intent.

SUMMARY: The U.S. Army Corps of Engineers (Corps) is preparing a Supplemental Draft Environmental Impact Statement (SDEIS) to analyze the direct, indirect, and cumulative effects of a proposed transportation project, the Niobrara East and West Project. Construction of the proposed Project is expected to result in temporary and permanent impacts to jurisdictional waters of the United States, thereby requiring a Clean Water Act section 404 permit proposed by the Nebraska Department of Transportation (NDOT). NDOT proposes to rehabilitate two segments of N-12 east and west of Niobrara, between Verdel and Santee Spur 54-D (S-54D) in Knox County, Nebraska. A Draft EIS for this project was released on October 9, 2015. A public open house and hearing was held on November 9, 2015. After the public comment period ended, NDOT elected to withdraw its Section 404 permit application on November 20, 2015. Since that time, NDOT has developed a modified project purpose and need, and alternatives responsive to this purpose and need.

DATES: Written comments for scoping will be accepted until May 24, 2019.

ADDRESSES: Questions and comments regarding the proposed action and SDEIS should be addressed to Becky Latka, Regulatory Field Support, U.S. Army Corps of Engineers, 1616 Capitol Ave., Omaha, NE 68102.

FOR FURTHER INFORMATION CONTACT: Becky Latka, (402) 995-2681; Rebecca.J.Latka@usace.army.mil.

SUPPLEMENTARY INFORMATION: NDOT's stated project purpose is to rehabilitate the existing roadway and to maximize utilization of existing transportation infrastructure and right-of-way, to improve the safety and reliability of the roadway, and bring the roadway up to current NDOT design standards for a major arterial highway. The project is needed due to ongoing risk of flooding, unreliable operations, and interruptions to regional connectivity.

The Corps is requesting scoping comments on the Project, preliminary alternatives, the NEPA compliance process, and to solicit input on the issues and alternatives to be evaluated and other related matters. Additional information and links related to the EIS can be found at https://www.nwo.usace.army.mil/Missions/Regulatory-Program/Nebraska/EIS-Highway-12/.

The Corps has invited the U.S. Environmental Protection Agency, National Park Service, U.S. Fish and Wildlife Service, the Federal Highway Administration, and Knox County to continue as cooperating agencies in the formulation of the EIS. Additionally, the Corps has invited the Nebraska Department of Environmental Quality and the Nebraska Department of Game and Parks to continue to serve as participating agencies during the preparation of the EIS.

The SDEIS will be prepared according to the Corps' procedures for implementing the National Environmental Policy Act (NEPA) of 1969, as amended, 42 U.S.C. 4332(2)(c), and consistent with the Corps' policy to facilitate public understanding and review of agency proposals. As part of the EIS process, a full range of reasonable alternatives, including the proposed Project and no action, will be evaluated.

John L. Moeschen,
Nebraska State Program Manager, Regulatory Branch.

[FR Doc. 2019-09060 Filed 5-2-19; 8:45 am]

BILLING CODE 3720-58-P